OFFICE OF PERSONNEL MANAGEMENT

Excepted Service; October 2017

AGENCY: U.S. Office of Personnel Management (OPM).

ACTION: Notice.

SUMMARY: This notice identifies Schedule A, B, and C appointing authorities applicable to a single agency that were established or revoked from October 1, 2017 to October 31, 2017.

FOR FURTHER INFORMATION CONTACT: Senior Executive Resources Services, Senior Executive Service and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No schedule A authorities to report during October 2017.

Schedule B

No schedule B authorities to report during October 2017.

Schedule C

The following Schedule C appointing authorities were approved during October 2017.

Agency name | Organization name | Position title | Authorization No. | Effective date
DEPARTMENT OF AGRICULTURE | Office of the Assistant Secretary for Congressional Relations | Confidential Assistant | DA180019 | 10/05/2017
| Office of Food and Nutrition Service | Confidential Assistant | DA170196 | 10/06/2017
| Farm Service Agency | State Executive Director—Wisconsin | DA170205 | 10/20/2017
|  | State Executive Director—Arkansas | DA180006 | 10/20/2017
|  | State Executive Director—Kentucky | DA180007 | 10/20/2017
|  | State Executive Director—Louisiana | DA170201 | 10/30/2017
|  | State Executive Director—Alaska | DA180039 | 10/23/2017
|  | State Executive Director—Indiana | DA180010 | 10/20/2017
|  | State Executive Director—Mississippi | DA180013 | 10/20/2017
|  | State Executive Director—Oklahoma | DA180022 | 10/20/2017
|  | State Executive Director—Virginia | DA180023 | 10/20/2017
|  | State Executive Director—Illinois | DA180035 | 10/20/2017
|  | State Executive Director—Nevada | DA180043 | 10/20/2017
|  | State Executive Director—Iowa | DA180046 | 10/20/2017
|  | State Executive Director (5) | DA180038 DA180026 | 10/23/2017 10/20/2017
|  |  | DA180011 | 10/20/2017
|  |  | DA180014 | 10/20/2017
|  |  | DA170200 | 10/23/2017
|  | State Executive Director—Georgia | DA180031 | 10/23/2017
|  | State Executive Director—Wyoming | DA180036 | 10/23/2017
|  | State Executive Director—Michigan | DA180028 | 10/20/2017
|  | State Executive Director—Maine | DA180015 | 10/20/2017
| Rural Housing Service | State Director—Massachusetts | DA180012 | 10/20/2017
|  | State Director—Michigan | DA180001 | 10/20/2017
|  | State Director—Oregon | DA180008 | 10/20/2017
|  | State Director—Pennsylvania | DA180032 | 10/20/2017
|  | State Director—Missouri | DA180040 | 10/20/2017
|  | State Director—Nevada | DA180042 | 10/20/2017
|  | State Director—Iowa | DA170202 | 10/23/2017
|  | State Director—Alaska | DA170204 | 10/23/2017
|  | State Director—Kentucky | DA180002 | 10/23/2017
|  | State Director (3) | DA180017 | 10/20/2017
|  |  | DA180020 | 10/23/2017
|  |  | DA180025 | 10/23/2017
|  | State Director—Illinois | DA180034 | 10/23/2017
|  | State Director—Washington | DA180037 | 10/23/2017
|  | State Director—West Virginia | DA180041 | 10/23/2017
|  | State Director—Arizona | DA180052 | 10/27/2017
|  | Confidential Assistant | DA180045 | 10/30/2017
| Office of the Under Secretary for Food, Nutrition and Consumer Services | Confidential Assistant | DA170195 | 10/30/2017
DEPARTMENT OF COMMERCE | Office of the Director | Special Advisor | DC170169 | 10/04/2017
| Office of Policy and Strategic Planning | Policy Assistant | DC170164 | 10/05/2017
| Office of White House Liaison | Deputy Director, Office of White House Liaison | DC170168 | 10/11/2017
| Immediate Office | Special Advisor | DC180001 | 10/18/2017
| Office of Bureau of Industry and Security | Special Advisor | DC170158 | 10/23/2017
| Office of the Under Secretary | Senior Advisor for International Trade Administration | DC180003 | 10/24/2017
|  | Senior Advisor for Advance | DC180004 | 10/24/2017
| Office of Scheduling and Advance | Deputy Director of Protocol | DC170167 | 10/31/2017
CONSUMER PRODUCT SAFETY COMMISSION | Office of Commissioners | Executive Assistant | PS180001 | 10/11/2017
DEPARTMENT OF DEFENSE | Office of the Assistant Secretary of Defense (Legislative Affairs) | Special Assistant for Legislative Affairs | DD170161 | 10/03/2017
|  | Special Assistant for Installations, Environment, and Energy | DD170235 | 10/06/2017
| Office of Assistant Secretary of Defense (Public Affairs) | Special Assistant for Public Affairs | DD170233 | 10/06/2017
| Office of the Assistant Secretary of Defense (International Security Affairs) | Special Assistant for African Affairs | DD180002 | 10/18/2017
| Office of the Secretary of Defense | Reader—Special Assistant | DD170099 | 10/23/2017
| Office of the Under Secretary of Defense (Personnel and Readiness) | Senior Advisor (Personnel and Readiness) | DD180014 | 10/30/2017
| Office of Washington Headquarters Services | Defense Fellow | DD180009 | 10/31/2017
DEPARTMENT OF THE AIR FORCE | Office of Assistant Secretary of the Air Force for Manpower and Reserve Affairs | Special Assistant | DF180003 | 10/23/2017
| Deputy Under Secretary (International Affairs) | Special Assistant | DF170014 | 10/30/2017
DEPARTMENT OF THE ARMY | Office Assistant Secretary Army (Installations, Energy and Environment) | Special Assistant (Installations, Energy and Environment) | DW180003 | 10/26/2017
DEPARTMENT OF THE NAVY | Department of the Navy | Special Assistant | DN180003 | 10/23/2017
DEPARTMENT OF EDUCATION | Office of the General Counsel | Attorney Advisor | DB170144 | 10/05/2017
| Office of Planning, Evaluation and Policy Development | Confidential Assistant | DB170146 | 10/11/2017
| Office of Legislation and Congressional Affairs | Confidential Assistant | DB170145 | 10/13/2017
| Office of Communications and Outreach | Confidential Assistant | DB180004 | 10/13/2017
| Office of the Secretary | Special Assistant | DB180005 | 10/26/2017
| Office of the Under Secretary | Special Assistant (Supervisory) | DB180008 | 10/30/2017
DEPARTMENT OF ENERGY | Assistant Secretary for International Affairs | Senior Advisor and Chief of Staff | DE170224 | 10/05/2017
| Office of the Secretary | Special Assistant | DE170227 | 10/06/2017
| Associate Under Secretary for Environment, Health, Safety and Security | Senior Advisor—Veterans Relations Senior Project Advisor | DE170218 DE170219 | 10/18/2017 10/23/2017
| Assistant Secretary for Congressional and Intergovernmental Affairs | Director of External Affairs | DE170225 | 10/23/2017
| Office of Energy Policy and Systems Analysis | Senior Analyst for Energy Security | DE180002 | 10/23/2017
ENVIRONMENTAL PROTECTION AGENCY | Office of the Administrator | Special Assistant Deputy Director for Scheduling and Advance | EP180003 EP180002 | 10/17/2017 10/20/2017
|  | Senior Advisor for Agriculture Policy | EP180001 | 10/23/2017
DEPARTMENT OF HEALTH AND HUMAN SERVICES | Office of Health Resources and Services Administration Office of the Administrator | Policy Advisor | DH170346 | 10/13/2017
| Office of the Assistant Secretary for Public Affairs | Policy Advisor | DH180002 | 10/13/2017
| Office of Refugee Resettlement/Office of the Director | Policy Advisor | DH170339 | 10/17/2017
| Office of Intergovernmental and External Affairs | Regional Director, Kansas City, Missouri, Region VII | DH170246 | 10/20/2017
| Office of the General Counsel | Assistant to the General Counsel | DH170327 | 10/23/2017
| Office for Civil Rights | Senior Advisor (Health Insurance Portability and Accountability Act) | DH170343 | 10/24/2017
| Office of Center for Consumer Information and Insurance Oversight | Senior Advisor | DH170342 | 10/30/2017
| Office of the Assistant Secretary for Legislation | Policy Advisor | DH180009 | 10/31/2017
DEPARTMENT OF HOMELAND SECURITY | Office of United States Citizenship and Immigration Services | Special Assistant | DM170287 | 10/05/2017
| Office of the Chief of Staff | Confidential Assistant | DM170297 | 10/24/2017
DEPARTMENT OF HOUSING AND URBAN DEVELOPMENT | Office of Field Policy and Management | Regional Administrator | DU180004 | 10/06/2017
| Office of Housing | Special Assistant | DU180002 | 10/20/2017
| Office of Public and Indian Housing | Senior Advisor | DU180003 | 10/20/2017
DEPARTMENT OF THE INTERIOR | Secretary's Immediate Office | Special Assistant | DI170119 | 10/23/2017
| Office of Assistant Secretary—Land and Minerals Management | Advisor | DI180001 | 10/23/2017
| Office of Assistant Secretary—Indian Affairs | Senior Advisor | DI180005 | 10/23/2017
| Office of Bureau of Reclamation | Special Assistant | DI180007 | 10/30/2017
DEPARTMENT OF JUSTICE | Office of Civil Rights Division | Chief of Staff and Counsel | DJ170180 | 10/17/2017
| Office of Justice Programs | Senior Advisor | DJ170177 | 10/18/2017
| Office of Legal Policy | Counsel (2) Chief of Staff and Counsel | DJ170179 DJ180004 DJ170171 | 10/20/2017 10/24/2017 10/23/2017
DEPARTMENT OF LABOR | Office of Congressional and Intergovernmental Affairs | Legislative Officer | DL170118 | 10/03/2017
| Office of Employee Benefits Security Administration | Senior Advisor | DL170119 | 10/03/2017
| Office of Mine Safety and Health Administration | Senior Advisor | DL170117 | 10/12/2017
| Office of Bureau of International Labor Affairs | Special Assistant | DL170122 | 10/12/2017
| Office of the Assistant Secretary for Policy | Senior Policy Advisor | DL170123 | 10/12/2017
| Office of the Secretary | Special Assistant | DL170125 | 10/12/2017
| Office of Employment and Training Administration | Senior Policy Advisor | DL180015 | 10/24/2017
OFFICE OF MANAGEMENT AND BUDGET | Office of the Director | Special Assistant | BO170092 | 10/17/2017
OFFICE OF NATIONAL DRUG CONTROL POLICY | Office of Legislative Affairs | Associate Director (Legislative Affairs) | QQ170016 | 10/11/2017
| Office of Public Affairs | Public Affairs Specialist | QQ170017 | 10/11/2017
SECURITIES AND EXCHANGE COMMISSION | Office of Division of Trading and Markets | Director, Division of Trading and Markets | SE180001 | 10/27/2017
DEPARTMENT OF STATE | Office of the Chief of Protocol | Staff Assistant (Gifts) | DS170199 | 10/03/2017
| Office of Bureau of Legislative Affairs | Special Assistant | DS170207 | 10/11/2017
| Office of Bureau of International Information Programs | Special Assistant | DS170203 | 10/13/2017
| Office of the United States Global Aids Coordinator | Special Assistant for Congressional Relations | DS170206 | 10/18/2017
|  | Senior Data Analyst | DS180001 | 10/26/2017
DEPARTMENT OF TRANSPORTATION | Office of the Secretary | Special Assistant | DT170154 | 10/11/2017
DEPARTMENT OF VETERANS AFFAIRS | Office of the Secretary and Deputy | Senior Advisor Office of Accountability and Whistleblower Protection | DV170089 | 10/03/2017

The following Schedule C appointing authorities were revoked during October 2017.

Agency | Organization | Title | Request No. | Date vacated
COMMODITY FUTURES TRADING COMMISSION | Office of the Chairperson | Director of Advance and Protocol (2) | CT170007 | 10/31/2017
DEPARTMENT OF COMMERCE | Office of White House Liaison | Deputy Director, Office of White House Liaison | DC170053 | 10/14/2017
| Office of Minority Business Development Agency | Special Advisor for Business Development | DC170093 | 10/23/2017
| Office of the Chief of Staff | Director of Advance and Protocol (2) | DC170115 DC180013 | 10/28/2017 10/28/2017
| Office of International Trade Administration | Senior Advisor | DC170111 | 10/31/2017
DEPARTMENT OF DEFENSE | Office of the Secretary of Defense | Deputy White House Liaison | DD170094 | 10/14/2017
| Office of the Under Secretary of Defense (Comptroller) | Special Assistant to the Under Secretary of Defense (Comptroller) | DD170151 | 10/28/2017
DEPARTMENT OF ENERGY | Office of Scheduling and Advance | Scheduler to the Deputy Secretary | DE170185 | 10/14/2017
| Office of the Secretary | Special Assistant to the Secretary | DE170115 | 10/14/2017
| Office of Assistant Secretary for Energy Efficiency and Renewable Energy | Senior Advisor | DE170189 | 10/21/2017
| Office of Public Affairs | Digital Strategy Advisor | DE170108 | 10/27/2017
| Office of Energy Policy and Systems Analysis | Special Advisor | DE170111 | 10/28/2017
DEPARTMENT OF HEALTH AND HUMAN SERVICES | Office of the Assistant Secretary for Public Affairs | Senior Advisor Press Assistant (Regional Media) | DH170333 DH170316 | 10/06/2017 10/28/2017
| Office of Health Resources and Services Administration/Office of the Administrator | Special Assistant | DH170278 | 10/14/2017
| Office of the Secretary | Deputy Scheduler Special Assistant | DH170158 DH170128 | 10/14/2017 10/30/2017
DEPARTMENT OF JUSTICE | Office of Civil Rights Division | Counsel | DJ170121 | 10/28/2017
| Office of the Attorney General | Confidential Assistant | DJ170083 | 10/31/2017
DEPARTMENT OF LABOR | Office of Employment and Training Administration | Chief of Staff | DL170090 | 10/28/2017
UNITED STATES INTERNATIONAL TRADE COMMISSION | Office of Commissioner Schmidtlein | Confidential Assistant | TC160004 | 10/13/2017

Authority: 5 U.S.C. 3301 and 3302; E.O. 10577, 3 CFR, 1954-1958 Comp., p. 218.

U.S. Office of Personnel Management.
Jeff T.H. Pon,
Director.

[FR Doc. 2018-05846 Filed 3-21-18; 8:45 am]

BILLING CODE 6325-39-P